DEPARTMENT OF TRANSPORTATION

[Docket No. OST-2004-19172]

Office of Small and Disadvantaged Business Utilization; Notice of Request for New Data Collection

AGENCY: Office of the Secretary, DOT.

ACTION: Notice.

SUMMARY: In accordance with the Paperwork Reduction Act of 1995 (44 U.S.C. 3501 et seq.), this notice announces that the Information Collection Request (ICR) abstracted below has been forwarded to the Office of Management and Budget (OMB) for approval and comment. The ICR describes the nature of the information collection and its expected cost and burden. The Federal Register Notice with a 60-day comment period soliciting comments on the following collection of information was published on December 30, 2004 [Volume 69, Number 250] and January 7, 2005 [FR Vol. 70, No. 5, page 1501] (correction). No comments were received.

DATES: Comments must be submitted on or before May 13, 2005. A comment to OMB is most effective if OMB receives it within 30 days of publication.

ADDRESSES: You may submit comments identified by DOT DMS Docket Number OST-2004-19172 by the following methods:

• Web site: http://dms.dot.gov. Follow the instructions for submitting comments on the DOT electronic docket site.

• Fax 1-202-493-2251.

• Mail: Docket Management Facility; U.S. Department of Transportation, 400 Seventh Street, SW, Nassif Building, Room PL-401, Washington, DC 20590-001.

• Hand Delivery: Room PL-401 on plaza level of the Nassif Building, 400 Seventh Street, SW, Washington DC, between 9 a.m. and 5 p.m., Monday through Friday, except on Federal holidays.

• Federal eRulemaking Portal: Go to http://www.regulations.gov. Follow the online instructions for submitting comments.

Instructions: All submissions must include the agency name and docket number or Regulatory Identification Number (RIN) for this rulemaking process; Note that all comments received will be posted without change to http://dms.dot.gov including any personal information provided. Please see the Privacy Act heading under Regulatory Notes.

Docket: For access to the docket to read background documents or comments received, go to http://dms.dot.gov at any time or to Room PL-401 on the plaza level of the Nassif Building, 400 Seventh Street, SW., Washington, DC, between 9 a.m. and 5 p.m., Monday through Friday, except Federal holidays.

FOR FURTHER INFORMATION CONTACT: Nancy Strine, Office of Small and Disadvantaged Business Utilization and Minority Resource Center, U.S. Department of Transportation, 400 Seventh Street, SW., Room 9414, Washington, DC 20590, 202-366-5343/1-800-532-1169, ext. 65343.

SUPPLEMENTARY INFORMATION: Title: Short-term Loan Program Online Application.

OMB Control Number: n/a Agency Form Number: DOT 4640.1.

Affected Public: Disadvantaged Business Enterprises (DBEs) businesses who have an interest in our business-related concerns.

Annual Estimated Burden: 50 hours.

Abstract: In accordance with 49 U.S.C. 332(b)(3)(4)(5), the Office of Small and Disadvantaged Business Utilization and Minority Resource Center is authorized to facilitate, encourage, promote, and assist minority entrepreneurs and businesses in getting transportation-related contracts, subcontracts, and projects related to those business opportunities. In response to developmental need, the U.S. Department of Transportation (DOT) Short Term Lending Program (STLP) was developed by the Office of Small and Disadvantaged Business Utilization and Minority Resource Center to offer certified Disadvantaged Business Enterprises (DBEs) the opportunity to obtain short-term working capital at prime interest rates for transportation-related contracts.

DBE firms participating in the STLP program will submit loan applications on-line to participating DOT Preferred Bank Lenders (PBL). The cumulative data collected will be analyzed by the Office of Small and Disadvantaged Business Utilization and Minority Resource Center and PBLs to determine the eligibility of DBEs for lines of credit to finance accounts receivable arising from transportation-related contracts. The information will also be used to increase uniformity among participating PBLs.

Comments are invited on: (a) Whether the proposed collection of information is necessary for the proper performance of the functions of the Department, including whether the information will have practical utility; (b) the accuracy of the Department's estimate of the burden of the proposed information collection; (c) ways to enhance the quality, utility and clarity of the information to be collected; and (d) ways to minimize the burden of the collection of information on respondents, including the use of automated collection techniques or other forms of information technology.

All responses to this notice will be summarized and included in the request for OMB approval.

Issued in Washington, DC, on April 7, 2005.
Michael A. Robinson,
Information Technology Program Management, United States Department of Transportation.

[FR Doc. 05-7373 Filed 4-12-05; 8:45 am]

BILLING CODE 4910-62-P